NATIONAL SCIENCE FOUNDATION

Notice of Intent To Seek Approval To Establish an Information Collection

AGENCY: National Science Foundation.

ACTION: Notice and request for comments.

SUMMARY: The National Science Foundation (NSF) is announcing plans to seek approval for the Survey of Public Attitudes Toward and Understanding of Science and Technology, an existing collection in use without an OMB Control Number. In accordance with the requirement set forth in the Paperwork Reduction Act of 1995, we are providing opportunity for public comment on this action. After obtaining and considering public comment, NSF will prepare the submission requesting that OMB approve clearance of this collection for three years.

Comments: Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

DATES: Written comments on this notice must be received by May 26, 2017 to be assured consideration. Comments received after that date will be considered to the extent practicable. Send comments to address below.

FOR FURTHER INFORMATION CONTACT: Suzanne H. Plimpton, NSF Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Survey of Public Attitudes Toward and Understanding of Science and Technology.

OMB Approval Number: 3145—NEW.

Type of Request: Intent to seek approval for an existing collection in use without an OMB control number.

1. Abstract: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. The Survey of Public Attitudes Toward and Understanding of Science and Technology (henceforth “S&T Attitudes Survey”) will be part of this data collection system, focused on public support for, understanding of, and attitudes toward science and technology.

The S&T Attitudes Survey has been collected as a module within the General Social Survey (GSS), an investigator-initiated grant survey conducted by the National Opinion Research Center (NORC) at the University of Chicago, since 2006. The module is funded by the National Center for Science and Engineering Statistics within NSF. NSF recognizes that this data collection is not currently cleared by the Office of Management and Budget, and seeks to bring it into compliance.

The S&T Attitudes Survey contains questions measuring a wide variety of topics, including following science in the media, attendance at informal science institutions such as museums, interest in science, knowledge of science facts, understanding of the scientific process, support for spending for scientific research, confidence in scientists, and attitudes toward particular science and technology issues such as nanotechnology and genetically engineered foods.

Data collection is expected to begin in Spring 2018. In recent data collection cycles, the GSS has attained a response rate of approximately 70%. Data is collected primarily by face-to-face interviews, though there is an option for phone interviews. The survey will be collected in conformance with the Privacy Act of 1974 and the Confidential Information Protection and Statistical Efficiency Act (CIPSEA). Responses from individuals are voluntary. All individually identifiable information collected will be kept strictly confidential and will be used for research or statistical purposes, analyzing data, and preparing scientific reports and articles.

2. Use of the Information: The S&T Attitudes Survey was established to gather high-quality data on public attitudes toward and understanding of science for the NCSES biennial publication, Science and Engineering Indicators (SEI). SEI is a congressionally mandated report on the status of the science and engineering enterprise in the United States, including comparisons with other countries. The “Science and Technology: Public Attitudes and Understanding” chapter of the report is dedicated to public understanding of and attitudes toward science and technology. These attitudes and understandings may influence students' decisions to pursue STEM careers, public support for funding scientific research, what technologies are adopted and how, and what public policies are put in place. Thus, public attitudes and understandings matter for the status of the science and engineering enterprise in the United States.

The NSF will publish statistics from the survey in NCSES' SEI report and possibly in InfoBriefs that focus on particular research topics. These reports will be made available in print and electronically on the NSF Web site. Public use data files will also be developed and made freely available via the Internet.

3. Expected Respondents: General Social Survey respondents are a probability sample of all noninstitutionalized English and Spanish speaking persons 18 years of age or older, living in the United States.

The sample is a multi-stage area probability sample to the block or segment level. The Primary Sampling Units employed are Standard Metropolitan Statistical Areas (SMSAs) or non-metropolitan counties. These are stratified by region, age, and race/ethnicity before selection. Smaller geographical units such as segments (which include, for example, city blocks) are further selected, stratified according to race/ethnicity and income. The average cluster size is about 6 to 7 respondents per segment. In a given segment, addresses are selected at random from a list of addresses, and one person is sought to participate from each address. There is, of course, the chance of sample biases due to not-at-homes. To reduce this potential bias, the interviewers are given instructions to canvass and interview usually after 3:00 p.m. on weekdays or during the weekend or holidays. The S&T Attitudes Survey forms a module on the GSS, and only a randomly-selected portion of GSS respondents take the module. To accomplish this, addresses are randomly assigned to take the module. The random assignment of addresses to the module is carried out within segments.

4. Estimate of Burden: In the 2014 GSS data collection cycle, respondents took an average of 20 minutes to respond to the S&T Attitudes Survey module. This is not expected to change. In addition, while the target number of participants is 1,250, this can vary depending on the execution of the GSS. No more than 1,313 participants are expected for the 2018 GSS. Thus, the total number of person-hours expected for the 2018 GSS is at most (20/60)*1,313 or 438 hours.

Dated: March 21, 2017.
Suzanne H. Plimpton,
Reports Clearance Officer, National Science Foundation.

[FR Doc. 2017-05937 Filed 3-24-17; 8:45 am]

BILLING CODE 7555-01-P